DEPARTMENT OF AGRICULTURE

Forest Service

Hiawatha National Forest; Michigan; Niagara EIS

AGENCY: Forest Service, USDA.

ACTION: Notice of intent to prepare an environmental impact statement.

SUMMARY: The East Administrative Unit of the Hiawatha National Forest intends to prepare an environmental impact statement (EIS) to disclose the environmental consequences of a vegetation and transportation management project. See the SUPPLEMENTARY INFORMATION section for the purpose of and need for the action.

DATES: Comments concerning the scope of the analysis must be received by February 17, 2008. The draft environmental impact statement is expected October 2008 and the final environmental impact statement is expected March 2009.

ADDRESSES: Send written comments to Lyn Hyslop, Niagara Team Leader; St. Ignace Ranger District; W1900 W US-2; St. Ignace, Michigan 49781. Send electronic comments to comments-eastern-hiawatha-st-ignace@fs.fed.us.

For further information, mail correspondence to Lyn Hyslop, Niagara Team Leader; St. Ignace Ranger District; W1900 W US-2; St. Ignace, Michigan 49781. See the SUPPLEMENTARY INFORMATION section for information on how to send electronic comments.

FOR FURTHER INFORMATION CONTACT: Lyn Hyslop, Niagara Team Leader; St. Ignace Ranger District; (906) 643-7900. See address above under ADDRESSES. Copies of documents may be requested at the same address. Another means of obtaining information is to visit the Hiawatha National Forest webpage at http://www.fs.fed.us/r9/hiawatha/planning.htm.

SUPPLEMENTARY INFORMATION:

Purpose of and Need for Action

The purpose of and need for the project is to:

• Ensure fully stocked stands of desired forest cover types identified in the vegetation composition and size goals for management areas 2.3 and 8.3, and provide commercial wood products (Forest Plan, pp. 3-10 and 3-42).

• Provide a safe and efficient transportation system for managing the National Forest and providing appropriate access to non-federal land.

• Provide within-stand diversity by increasing white pine and hemlock in stands missing this component.

• Reduce the susceptibility of the Niagara area to insect and disease outbreaks.

Proposed Action

To move the project area toward the desired conditions shown in the Hiawatha National Forest Land and Resource Management Plan, the Hiawatha National Forest would during this decade: (1) Clearcut on 189 acres, (2) clearcut—salvage mortality on 416 acres, (3) shelterwood cut with reserves on 650 acres, (4) seed-tree cut with reserves on 62 acres, (5) overstory removal cut with reserves on 219 acres, (6) single-tree selection cut on 4,154 acres, (7) commercial thin on 879 acres, (8) site preparation for natural regeneration on 4,487 acres, (9) mechanical site preparation for natural regeneration on 409 acres, (10) full planting on 219 acres, (11) construct 4 miles of new system roads, (12) construct 6 miles of temporary roads, (13) add 2 miles of unclassified roads to the National Forest System, (14) close 2 miles of existing roads, (15) decommission 18 miles of roads, (16) construct 19 permanent log landings, and (17) construct 20 temporary log landings. The total treatment area is 6,569 acres.

Responsible Official

Stevan J. Christiansen, District Ranger; St. Ignace Ranger District; W1900 W US-2; St. Ignace, Michigan 49781.

Nature of Decision To Be Made

The decision to be made is whether or not to manage the vegetation on any or all of the 6,569 acres by harvesting, and; whether or not to manage the transportation system through construction of temporary and permanent roads and log landings, addition of unclassified roads, and road closures and decommissioning.

Scoping Process

The St. Ignace Ranger District proposes to scope for information by contacting persons and organizations on the Hiawatha's mailing list and landowners within or adjacent to the project area. In addition a legal notice will be posted in the local newspapers. An open house is also scheduled for January 30, 2008 at the St. Ignace District office at the address listed above, from 5-8 p.m. This present solicitation is for comments on this Notice of Intent and the scoping materials available elsewhere, such as on the Hiawatha National Forest webpage.

Preliminary Issues

Preliminary or potential issues have been identified from experience with similar projects.

(1) Timber harvesting may adversely impact wildlife species requiring early succession habitat.

(2) Timber harvesting may adversely impact wildlife species requiring late succession habitat.

(3) Closing and decommissioning roads could reduce the amount of legal motorized vehicle activity and could increase the amount of illegal motorized vehicle activity.

(4) Closing and decommissioning roads could result in adverse effects to soils, riparian areas and wetlands, wildlife, and plants.

(5) Timber harvesting and road building may adversely impact Canada lynx or Hart's tongue fern.

(6) The karst topography and its dependent above-ground and below-ground resources may be impacted by the area's ability to produce valuable timber products.

Addresses

Information is available electronically on the Hiawatha National Forest webpage: http://www.fs.fed.us/r9/hiawatha/planning.htm—click on “Niagara”. Send electronic comments to: comments-eastern-hiawatha-st-ignace@fs.fed.us. When submitting electronic comments, please reference the Niagara Project on the subject line. In addition, include your name, mailing address, and whether you would like a CD or paper copy of the draft EIS.

Comment Requested

This notice of intent initiates the scoping process which guides the development of the environmental impact statement. Comments are most valuable if they are within the scope of the proposed action, specific to the proposed action, have a direct relationship to the proposed action, and include supporting reasons for consideration in the environmental impact statement and any subsequent decisions. Comments will be used to identify relevant issues, display environmental effects, or develop a range of reasonable alternatives to the proposed action. Any referenced scientific literature should be accompanied by a complete copy of the literature, and rationale as to its pertinence to the Niagara Project.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 23, 2008.
Stevan J. Christiansen,
District Ranger.

[FR Doc. E8-1607 Filed 1-29-08; 8:45 am]

BILLING CODE 3410-11-P